DEPARTMENT OF HEALTH AND HUMAN SERVICES

Substance Abuse and Mental Health Services Administration (SAMHSA)

Special Emphasis Panels I; Notice of Meetings

Pursuant to Pub. L. 92-463, notice is hereby given of the following meetings of SAMHSA Special Emphasis Panels I in November and December 2002.

A summary of the meetings and a roster of the members may be obtained from: Ms. Coral Sweeney, Review Specialist, SAMHSA, Office of Policy and Program Coordination, Division of Extramural Activities, Policy, and Review, 5600 Fishers Lane, Room 17-89, Rockville, Maryland 20857. Telephone: (301) 443-2998.

Substantive program information may be obtained from the individual named as Contact for the meeting listed below.

The meetings will include the review, discussion and evaluation of individual grant applications. These discussions could reveal personal information concerning individuals associated with the applications. Accordingly, these meetings are concerned with matters exempt from mandatory disclosure in Title 5 U.S.C. 552b© (6) and 5 U.S.C. App.2, § 10(d).

Committee Name: SAMHSA Special Emphasis Panel 1 (SEP1).

Meeting Date: November 18th-22nd, 2002.

Place: Bethesda Marriott, 5151 Pooks Hill Road, Bethesda, MD 20814.

Closed: 11 a.m. November 20th to Adjournment.

Panel: Recovery Community Services Program (RCSP II), 4 Committees.

Contact: Diane McMenamin, Director, Division of Extramural Activities, Policy and Review, Parklawn Building, 5600 Fishers Lane, Room 1789, Rockville, Maryland 20857.

Committee Name: SAMHSA Special Emphasis Panel 1 (SEP1).

Meeting Date: November 18th-22nd, 2002.

Place: Bethesda Marriott, 5151 Pooks Hill Road, Bethesda, MD 20814.

Closed: 11 a.m. November 20th to Adjournment.

Panel: Strengthening Communities—Youth, 2 Committees.

Contact: Diane McMenamin, Director, Division of Extramural Activities, Policy and Review, Parklawn Building, 5600 Fishers Lane, Room 1789, Rockville, Maryland 20857.

Committee Name: SAMHSA Special Emphasis Panel 1 (SEP1).

Meeting Date: December 9th-13th, 2002.

Place: Bethesda Marriott, 5151 Pooks Hill Road, Bethesda, MD 20814.

Closed: 11 a.m. December 11th to Adjournment.

Panel: American Indian/Alaskan Native and Rural, Community Planning Program.

Contact: Diane McMenamin, Director, Division of Extramural Activities, Policy and Review, Parklawn Building, 5600 Fishers Lane, Room 1789, Rockville, Maryland 20857.

Committee Name: SAMHSA Special Emphasis Panel 1 (SEP1).

Meeting Date: December 2nd-6th, 2002.

Place: Gaithersburg Marriott Rio, Gaithersburg, Maryland.

Closed: 11 a.m. December 4th to Adjournment.

Panel: CMHS Jail Diversion.

Contact: Diane McMenamin, Director, Division of Extramural Activities, Policy and Review, Parklawn Building, 5600 Fishers Lane, Room 1789, Rockville, Maryland 20857.

Committee Name: SAMHSA Special Emphasis Panel 1 (SEP1).

Meeting Date: December, 2002.

Place: SAMHS, 5600 Fishers Lane, Rockville, Maryland.

Closed: Phone Review—Closed Entirely.

Panel: Conference Grants.

Contact: Diane McMenamin, Director, Division of Extramural Activities, Policy and Review, Parklawn Building, 5600 Fishers Lane, Room 1789, Rockville, Maryland 20857.

Dated: October 15, 2002.
Coral Sweeney,
Review Specialist, , Substance Abuse and Mental Health Services Administration.

[FR Doc. 02-26670 Filed 10-18-02; 8:45 am]

BILLING CODE 4162-20-P